DEPARTMENT OF HOMELAND SECURITY

Coast Guard

33 CFR Part 165

[Docket No. USCG-2022-0619]

Security Zones; Seattle's Seafair Fleet Week Moving Vessels, Puget Sound, WA

AGENCY: Coast Guard, DHS.

ACTION: Notification of enforcement of regulation.

SUMMARY: The Coast Guard will enforce Seattle's Seafair Fleet Week Moving Vessels security zones from 11:30 a.m. on August 1, 2022, through 5 p.m. on August 7, 2022. These security zones are necessary to help ensure the security of the vessels from sabotage or other subversive acts during Seafair Fleet Week Parade of Ships. The designated participating vessels are: USS LAKE CHAMPLAIN (CG-57), USS JOHN PAUL JONES (DDG-53), USCGC HENRY BLAKE (WLM-563), USCGC ANACAPA (WPB-1335), USCGC TERRAPIN (WPB-87366), USCGC OSPREY (WPB-87307), HMCS SASKATOON (MM-709), HMCS YELLOWKNIFE (MM-706), and Fireboat LESCHI. During the enforcement period, no person or vessel may enter or remain in the security zones without the permission of the Captain of the Port (COTP), Puget Sound or her designated representative. The COTP has granted general permission for vessels to enter the outer 400 yards of the security zones as long as those vessels within the outer 400 yards of the security zones operate at the minimum speed necessary to maintain course unless required to maintain speed by the navigation rules.

DATES: The regulations in 33 CFR 165.1333 will be enforced without actual notice from August 5, 2022 through 5 p.m. on August 7, 2022, unless cancelled sooner by the Captain of the Port Puget Sound or her designated representative. For the purposes of enforcement, actual notice will be used from 11:30 a.m. August 1, 2022, until August 5, 2022.

FOR FURTHER INFORMATION CONTACT: If you have questions about this notification of enforcement, call or email Chief Warrant Officer William Martinez, Sector Puget Sound Waterways Management Division, U.S. Coast Guard; telephone 206-217-6051, email SectorPugetSoundWWM@uscg.mil.

SUPPLEMENTARY INFORMATION: The Coast Guard will enforce the security zones for Seattle's Seafair Fleet Week Moving Vessels in 33 CFR 165.1333 from 11:30 a.m. on August 1, 2022, through 5 p.m. on August 7, 2022.

In accordance with the general regulations in 33 CFR part 165, subpart D, no person or vessel may enter or remain in the security zones without the permission of the Captain of the Port, Puget Sound or her designated representative. For 2022, the following areas are § 165.1333 security zones: all navigable waters within 500 yards of USS LAKE CHAMPLAIN (CG-57), USS JOHN PAUL JONES (DDG-53), USCGC HENRY BLAKE (WLM-563), USCGC ANACAPA (WPB-1335), USCGC TERRAPIN (WPB-87366), USCGC OSPREY (WPB-87307), HMCS SASKATOON (MM-709), HMCS YELLOWKNIFE (MM-706), and Fireboat LESCHI, while each such vessel is in the Sector Puget Sound COTP Zone.

The COTP has granted general permission for vessels to enter the outer 400 yards of the security zones as long as those vessels within the outer 400 yards of the security zones operate at the minimum speed necessary to maintain course unless required to maintain speed by the navigation rules. The COTP may be assisted by other federal, state or local agencies with the enforcement of the security zones.

All vessel operators who desire to enter the inner 100 yards of the security zones or transit the outer 400 yards at greater than minimum speed necessary to maintain course must obtain permission from the COTP or her designated representative by contacting the on-scene patrol craft on VHF Ch 13 or Ch 16. Requests must include the reason why movement within this area is necessary. Vessel operators granted permission to enter the security zones will be escorted by the on-scene patrol craft until they are outside of the security zones.

In addition to this notice of enforcement, the Coast Guard will provide the maritime community with notification of the security zones via the Local Notice to Mariners and marine information broadcasts on the day of the event. In the event that there are changes to the participating vessels, due to operational requirements, the Coast Guard will provide actual notice for any additional designated participating vessels not covered in this document.

Members of the public may contact Sector Puget Sound COTP at 206-217-6002 for an up-to-date list of designated participating vessels. If the COTP determines that the security zones need not be enforced for the full duration stated in this notice of enforcement, a Broadcast Notice to Mariners may be used to grant general permission to enter all portions of the regulated areas.

Dated: July 29, 2022.
P.M. Hilbert,
Captain, U.S. Coast Guard, Captain of the Port, Sector Puget Sound.

[FR Doc. 2022-16793 Filed 8-4-22; 8:45 am]

BILLING CODE 9110-04-P